DEPARTMENT OF HEALTH AND HUMAN SERVICES

Administration for Children and Families

Proposed Information Collection Activity; Comment Request

Title: Multi-Site Evaluation of Project LAUNCH.

(OMB No.: 0970-0373)

Description: The Administration for Children and Families (ACF), U.S. Department of Health and Human Services, is planning to collect data for the multi-site evaluation (MSE) of Project LAUNCH (Linking Actions for Unmet Needs in Children's Health). Project LAUNCH is intended to promote healthy development and wellness in children from birth to eight years of age. Project LAUNCH grantees are funded by the Substance Abuse and Mental Health Services Administration (SAMHSA) to improve coordination among child-serving systems, enhance systems coordination, integrate child behavioral health services with other health services, and implement evidence-based programs to address children's healthy development.

The Project LAUNCH MSE seeks to determine the impact of the combined LAUNCH services and strategies on child, family, and systems level outcomes. Data for the MSE will be collected through several mechanisms. First, all LAUNCH grantees will submit semi-annual reports through a web-based data entry system. Second, Project LAUNCH grantees will be systematically sampled to include 10 non-tribal and 5 tribal sites, and matched comparison communities (10 non-tribal and 5 tribal) will be recruited to participate in data collection efforts. Within each site, 2 elementary schools and 4 early childhood education (ECE) centers will be selected as data collection sites. Data collected from this sample of LAUNCH and comparison communities will include:

• Surveys of parents of a sample of young children (birth through age eight). Topics include child health, social emotional health, school readiness, parent-child relationships, parent depression, home environment, and parental social support.

• Surveys of a sample of kindergarten teachers. The survey will assess kindergarten students' school readiness in the areas of physical health and well-being; social competence; emotional maturity; language and cognitive development; and communication skills.

• Surveys of elementary school and ECE administrators. The survey will assess child suspension and expulsion.

In addition, key informant interviews will be conducted with local and state early childhood leaders to gather contextual information about systems-level activities and change.

Respondents: All Project LAUNCH grantees for the web-based data collection; a systematic sample of parents, teachers, elementary school and ECE administrators in both LAUNCH and comparison communities; and key informants at the local and state levels in both LAUNCH and comparison communities.

Annual Burden Estimates
Instrument | Total No. of respondents | Annual No. of respondents | Number of responses per respondent | Average burden hours per response | Annual burden hours
Direct Service Activities web-based data collection | 96 | 32 | 6 | 8.5 | 1632
Systems Activities and Outcomes web-based data collection | 96 | 32 | 3 | 8 | 768
Parent Survey | 8100 | 2700 | 3 | 0.5 | 4050
Teacher Survey | 720 | 240 | 3 | 10 | 7200
School Suspension and Expulsion Survey | 540 | 180 | 3 | 1 | 540
Systems Change Interview | 315 | 105 | 3 | 1 | 315

Estimated Total Annual Burden Hours: 14,505.

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Karl Koerper,
Reports Clearance Officer.

[FR Doc. 2015-06385 Filed 3-19-15; 8:45 am]

BILLING CODE 4184-22-P